DEPARTMENT OF COMMERCE

International Trade Administration

[C-533-935]

Hard Empty Capsules From India: Preliminary Affirmative Countervailing Duty Determination and Alignment of Final Determination With Final Antidumping Duty Determination; Withdrawal

AGENCY: Enforcement and Compliance, International Trade Administration, Department of Commerce.

DATES: Applicable April 11, 2025.

FOR FURTHER INFORMATION CONTACT: Katherine Smith or Gorden Struck, AD/CVD Operations, Office II, Enforcement and Compliance, International Trade Administration, U.S. Department of Commerce, 1401 Constitution Avenue NW, Washington, DC 20230; (202) 482-0557 or (202) 482-8151, respectively.

SUPPLEMENTARY INFORMATION:

Background

On April 1, 2025, the U.S. Department of Commerce (Commerce) erroneously published a duplicate Federal Register notice titled Hard Empty Capsules from India: Preliminary Affirmative Countervailing Duty Determination and Alignment of Final Determination With Final Antidumping Duty Determination. Commerce is withdrawing the above-mentioned notice, Federal Register Doc. 2025-05538.

Notification to Interested Parties

This notice is issued and published pursuant to section 703(f) and 777(i) of the Tariff Act of 1930, as amended, and 19 CFR 351.205(c).

Dated: April 4, 2025.
Christopher Abbott,
Deputy Assistant Secretary for Policy and Negotiations, performing the non-exclusive functions and duties of the Assistant Secretary for Enforcement and Compliance.

[FR Doc. 2025-06219 Filed 4-10-25; 8:45 am]

BILLING CODE 3510-DS-P